DEPARTMENT OF HOMELAND SECURITY

Federal Emergency Management Agency

44 CFR Part 65

[Docket No. FEMA -B-7452]

Changes in Flood Elevation Determinations

AGENCY: Federal Emergency Management Agency (FEMA), Emergency Preparedness and Response Directorate, Department of Homeland Security.

ACTION: Interim rule.

SUMMARY: This interim rule lists communities where modification of the Base (1% annual-chance) Flood Elevations (BFEs) is appropriate because of new scientific or technical data. New flood insurance premium rates will be calculated from the modified BFEs for new buildings and their contents.

DATES: These modified BFEs are currently in effect on the dates listed in the table below and revise the Flood Insurance Rate Maps in effect prior to this determination for the listed communities.

From the date of the second publication of these changes in a newspaper of local circulation, any person has ninety (90) days in which to request through the community that the Mitigation Division Director for the Emergency Preparedness and Response Directorate reconsider the changes. The modified BFEs may be changed during the 90-day period.

ADDRESSES: The modified BFEs for each community are available for inspection at the office of the Chief Executive Officer of each community. The respective addresses are listed in the table below.

FOR FURTHER INFORMATION CONTACT: Doug Bellomo, P.E. Hazard Identification Section, Mitigation Division, Emergency Preparedness and Response Directorate, FEMA, 500 C Street, SW., Washington, DC 20472, (202) 646-2903.

SUPPLEMENTARY INFORMATION: The modified BFEs are not listed for each community in this interim rule. However, the address of the Chief Executive Officer of the community where the modified BFE determinations are available for inspection is provided.

Any request for reconsideration must be based on knowledge of changed conditions or new scientific or technical data.

The modifications are made pursuant to section 201 of the Flood Disaster Protection Act of 1973, 42 U.S.C. 4105, and are in accordance with the National Flood Insurance Act of 1968, 42 U.S.C. 4001 et seq., and with 44 CFR part 65.

For rating purposes, the currently effective community number is shown and must be used for all new policies and renewals.

The modified BFEs are the basis for the floodplain management measures that the community is required to either adopt or to show evidence of being already in effect in order to qualify or to remain qualified for participation in the National Flood Insurance Program (NFIP).

These modified BFEs, together with the floodplain management criteria required by 44 CFR 60.3, are the minimum that are required. They should not be construed to mean that the community must change any existing ordinances that are more stringent in their floodplain management requirements. The community may at any time enact stricter requirements of its own, or pursuant to policies established by the other Federal, State, or regional entities.

The changes BFEs are in accordance with 44 CFR 65.4.

National Environmental Policy Act. This rule is categorically excluded from the requirements of 44 CFR part 10, Environmental Consideration. No environmental impact assessment has been prepared.

Regulatory Flexibility Act. The Mitigation Division Director for the Emergency Preparedness and Response Directorate certifies that this rule is exempt from the requirements of the Regulatory Flexibility Act because modified BFEs are required by the Flood Disaster Protection Act of 1973, 42 U.S.C. 4105, and are required to maintain community eligibility in the NFIP. No regulatory flexibility analysis has been prepared.

Regulatory Classification. This interim rule is not a significant regulatory action under the criteria of section 3(f) of Executive Order 12866 of September 30, 1993, Regulatory Planning and Review, 58 FR 51735.

Executive Order 12612, Federalism. This rule involves no policies that have federalism implications under Executive Order 12612, Federalism, dated October 26, 1987.

Executive Order 12778, Civil Justice Reform. This rule meets the applicable standards of section 2(b)(2) of Executive Order 12778.

List of Subjects in 44 CFR Part 65

Flood insurance, Floodplains, Reporting and recordkeeping requirements.

Accordingly, 44 CFR part 65 is amended to read as follows:

PART 65—[AMENDED]

1. The authority citation for part 65 continues to read as follows:

Authority: 42 U.S.C. 4001 et seq.; Reorganization Plan No. 3 of 1978, 3 CFR, 1978 Comp., p. 329; E.O. 12127, 44 FR 19367, 3 CFR, 1979 Comp., p. 376.

§ 65.4 [Amended]

2. The tables published under the authority of § 65.4 are amended as follows:

State and county | Location and case no. | Date and name of newspaper where notice was published | Chief executive officer of community | Effective date of modification | Community No.
Alaska: Anchorage Borough | Municipality of Anchorage (04-10-0831P) | April 27, 2005; May 4, 2005; Anchorage Daily News | The Honorable Mark Begich, Mayor, Municipality of Anchorage, P.O. Box 196650, Anchorage, Alaska 99519-6650 | August 3, 2005 | 020005
Alabama: Coffee | Unincorporated Areas (04-04-A853P) | February 23, 2005; March 3, 2005; The Enterprise Ledger | The Honorable Doug Dalrymple, Chairman, Coffee County Commission, County Courthouse, Two County Complex, New Brockton, Alabama 36351 | February 10, 2005 | 010239
Arizona:
Maricopa | City of Phoenix (03-09-0661P) | April 21, 2005; April 28, 2005; Arizona Business Gazette | The Honorable Phil Gordon, Mayor, City of Phoenix, 200 West Washington Street, 11th Floor, Phoenix, Arizona 85003 | July 28, 2005 | 040051
Maricopa | City of Scottsdale (05-09-0403X) | February 24, 2005; March 3, 2005; Arizona Business Gazette | The Honorable Mary Manross, Mayor, City of Scottsdale, 3939 North Drinkwater Boulevard, Scottsdale, Arizona 85251 | February 4, 2005 | 045012
Pima | Town of Marana (03-09-1149P) | April 28, 2005; May 5, 2005; The Daily Territorial | The Honorable Bobby Sutton, Mayor, Town of Marana, 13251 North Lon Adams Road, Marana, Arizona 85653 | August 4, 2005 | 040118
Pima | City of Tucson (04-09-0547P) | April 21, 2005; April 28, 2005; The Daily Territorial | The Honorable Bob Walkup, Mayor, City of Tucson, City Hall, 255 West Alameda Street, Tucson, Arizona 85701 | July 28, 2005 | 040076
Pima | Unincorporated Areas (03-09-1149P) | April 28, 2005; May 5, 2005; The Daily Territorial | The Honorable Sharon Bronson, Chair, Pima County Board of Supervisors, 130 West Congress Street, 11th Floor, Tucson, Arizona 85701 | August 4, 2005 | 040073
California:
Alameda | City of Hayward (04-09-0592P) | April 23, 2005; April 30, 2005; Daily Review | The Honorable Roberta Cooper, Mayor, City of Hayward, 777 B Street, Hayward, California 94541-5007 | April 11, 2005 | 065033
Alameda | City of Pleasanton (04-09-0039P) | May 10, 2005; May 17, 2005; Alameda Journal | The Honorable Jennifer Hosterman, Mayor, City of Pleasanton, P.O. Box 520, Pleasanton, California 94566-0802 | August 16, 2005 | 060012
Alameda | Unincorporated Areas (04-09-0039P) | May 10, 2005; May 17, 2005; Alameda Journal | The Honorable Keith Carson, President, Alameda County Board of Supervisors, 1221 Oak Street, Suite 536, Oakland, California 94612 | August 16, 2005 | 060001
Contra Costa | City of Hercules (05-09-0327P) | April 14, 2005; April 21, 2005; West County Times | The Honorable Frank Batara, Mayor, City of Hercules, 111 Civic Drive, Hercules, California 94547 | July 21, 2005 | 060434
Los Angeles | City of Agoura Hills (04-09-1686P) | March 24, 2005; March 31, 2005; The Acorn | The Honorable Denis Weber, Mayor, City of Agoura Hills, 30001 Ladyface Court, Agoura Hills, California 91301 | June 30, 2005 | 065072
San Bernardino | City of Colton (03-09-0798P) | March 23, 2005; March 30, 2005; San Bernardino County Sun | The Honorable Deirdre Bennett, Mayor, City of Colton, City Hall, 650 North La Cadena Drive, Colton, California 92324 | March 17, 2005 | 060273
San Bernardino | City of Grande Terrace (03-09-0798P) | March 23, 2005; March 30, 2005; San Bernardino County Sun | The Honorable Maryetta Ferre, Mayor, City of Grand Terrace, City Hall, 22795 Barton Road, Grand Terrace, California 92313 | March 17, 2005 | 060737
San Bernardino | City of Highland (03-09-0798P) | March 23, 2005; March 30, 2005; San Bernardino County Sun | The Honorable Ross Jones, Mayor, City of Highland, City Hall, 27215 Baseline Drive, Highland, California 92346 | March 17, 2005 | 060732
San Bernardino | City of Redlands (03-09-0798P) | March 23, 2005; March 30, 2005; San Bernardino County Sun | The Honorable Susan Peppler, Mayor, City of Redlands, P.O. Box 3005, Redlands, California 92373-1505 | March 17, 2005 | 060279
San Bernardino | City of Rialto (03-09-0798P) | March 23, 2005; March 30, 2005; San Bernardino County Sun | The Honorable Grace Vargas, Mayor, City of Rialto, 150 South Palm Avenue, Rialto, California 92376 | March 17, 2005 | 060280
San Bernardino | City of San Bernardino (03-09-0798P) | March 23, 2005; March 30, 2005; San Bernardino County Sun | The Honorable Judith Valles, Mayor, City of San Bernardino, 300 North D Street, Sixth Floor, San Bernardino, California 92418 | March 17, 2005 | 060281
San Bernardino | Unincorporated Areas (03-09-0798P) | March 23, 2005; March 30, 2005; San Bernardino County Sun | The Honorable Bill Postmus, Chairman, San Bernardino County Board of Supervisors, 385 North Arrowhead Avenue, San Bernardino, California 92415-0110 | March 17, 2005 | 060270
San Diego | City of Chula Vista (04-09-1682P) | March 22, 2005; March 29, 2005; San Diego Union-Tribune | The Honorable Stephen C. Padilla, Mayor, City of Chula Vista, 276 Fourth Avenue, Chula Vista, California 91910 | June 28, 2005 | 065021
San Diego | City of San Diego (04-09-1682P) | March 22, 2005; March 29, 2005; San Diego Union-Tribune | The Honorable Dick Murphy, Mayor, City of San Diego, 202 “C” Street, Eleventh Floor, San Diego, California 92101 | June 28, 2005 | 065295
San Diego | Unincorporated Areas (04-09-1360P) | March 24, 2005; March 31, 2005; San Diego Union-Tribune | The Honorable Dianne Jacob, Chairperson, San Diego County Board of Supervisors, County Administration Center, 1600 Pacific Highway, San Diego, California 92101 | March 10, 2005 | 060284
Colorado:
Adams | City of Commerce City (04-08-0577P) | February 2, 2005; February 9, 2005; Brighton Standard-Blade | The Honorable Sean Ford, Mayor, City of Commerce City, 5291 East 60th Avenue, Commerce City, Colorado 80022 | May 11, 2005 | 080006
Adams | City of Thornton (04-08-0577P) | February 2, 2005; February 9, 2005; Brighton Standard-Blade | The Honorable Noel Busck, Mayor, City of Thornton, 9500 Civic Center Drive, Thornton, Colorado 80229 | May 11, 2005 | 080007
Adams | Unincorporated Areas (04-08-0577P) | February 2, 2005; February 9, 2005; Brighton Standard-Blade | The Honorable Elaine T. Valente, Chairman, Adams County Board of Commissioners, 450 South Fourth Avenue, Brighton, Colorado 80601 | May 11, 2005 | 080001
Arapahoe | City of Centennial (05-08-0060P) | March 17, 2005; March 24, 2005; The Littleton Independent | The Honorable Randy Pye, Mayor, City of Centennial, City of Centennial Office, 12503 East Euclid Drive, Suite 200, Centennial, Colorado 80111 | March 3, 2005 | 080315
Denver | City & County of Denver (04-08-0657P) | March 23, 2005; March 30, 2005; Rocky Mountain News | The Honorable John W. Hickenlooper, Mayor, City and County of Denver, 1437 Bannock Street, Suite 350, Denver, Colorado 80202 | February 23, 2005 | 080046
Douglas | Unincorporated Areas (04-08-0696P) | March 3, 2005; March 10, 2005; Douglas County News-Press | The Honorable Walter M. Maxwell, Chairman, Douglas County Board of Commissioners, 100 Third Street, Castle Rock, Colorado 80104 | February 17, 2005 | 080049
Douglas | Unincorporated Areas (05-08-0022P) | March 31, 2005; April 7, 2005; Douglas County News-Press | The Honorable Walter M. Maxwell, Chairman, Douglas County Board of Commissioners, 100 Third Street, Castle Rock, Colorado 80104 | March 21, 2005 | 080049
El Paso | Unincorporated Areas (04-08-0519P) | February 2, 2005; February 9, 2005; El Paso County News | The Honorable Chuck Brown, Chairman, El Paso County Board of Commissioners, 27 East Vermijo Avenue, Colorado Springs, Colorado 80903-2208 | May 11, 2005 | 080059
El Paso | Unincorporated Areas (04-08-0709P) | February 9, 2005; February 16, 2005; El Paso County News | The Honorable Chuck Brown, Chairman, El Paso County Board of Commissioners, 27 East Vermijo Avenue, Colorado Springs, Colorado 80903-2208 | May 18, 2005 | 080059
Gilpin | City of Black Hawk (04-08-0333P) | March 18, 2005; March 25, 2005; Weekly Register Call | The Honorable Kathryn Eccker, Mayor, City of Black Hawk, P.O. Box 17, Black Hawk, Colorado 80422 | June 24, 2005 | 080076
Jefferson | City of Lakewood (05-08-0126P) | March 24, 2005; March 31, 2005 The Lakewood Sentinel | The Honorable Steve Burkholder, Mayor, City of Lakewood, Lakewood Civic Center South, 480 South Allison Parkway, Lakewood, Colorado 80226 | February 22, 2005 | 085075
Connecticut:
Fairfield | Town of Greenwich (05-01-0130P) | March 3, 2005; March 10, 2005; Greenwich Times | The Honorable Jim Lash, First Selectman, Town of Greenwich, Town Hall 101 Field Point Road, Greenwich, Connecticut 06830 | February 7, 2005 | 090008
New London | City of New London (05-01-0174P) | May 12, 2005; May 19, 2005; The Day | Mr. Richard M. Brown, City Manager, City of New London, 181 State Street, New London, Connecticut 06320 | April 19, 2005 | 090100
Florida: Broward | City of Hallandale Beach (05-04-0018P) | March 24, 2005; March 31, 2005; Sun Sentinel | The Honorable Joy Cooper, Mayor, City of Hallandale Beach, 400 South Federal Highway, Hallandale Beach, Florida 33009 | March 9, 2005 | 125110
Idaho: Ada | Unincorporated Areas (04-10-0520P) | March 24, 2005; March 31, 2005; The Idaho Statesman | The Honorable Judy Peavey-Derr, Chairman, Ada County, Board of Commissioners, 200 West Front Street, Boise, Idaho 83702 | June 30, 2005 | 160001
Illinois:
Cook | City of Hickory Hills (05-05-0128P) | April 21, 2005; April 28, 2005; Daily Southtown | The Honorable Michael Howley, Mayor, City of Hickory Hills, 8652 West 95th Street, Hickory Hills, Illinois 60457 | March 28, 2005 | 170103
Cook | Village of Justice (05-05-0128P) | April 21, 2005; April 28, 2005; Daily Southtown | The Honorable Melvin D. Van Allen, Village President, Village of Justice, 7800 South Archer Road, Justice, Illinois 60458 | March 28, 2005 | 170112
Madison | City of Highland (05-05-0534P) | March 24, 2005; March 31, 2005; The Highland News Leader | The Honorable Bob Bowman, Mayor, City of Highland, P.O. Box 218, Highland, Illinois 62249 | April 4, 2005 | 170445
Indiana: Hamilton | Town of Westfield (05-05-0417P) | March 22, 2005; March 29, 2005; The Noblesville Ledger | The Honorable Teresa Otis Skelton, Town Council President, Town of Westfield 130 Penn Street, Westfield, Indiana 46074 | March 10, 2005 | 180083
Iowa: Johnson | City of Coralville (05-07-0424P) | May 12, 2005; May 19, 2005; Iowa City Press-Citizen | The Honorable Jim Fausett, Mayor, City of Coralville, 1512 Seventh Street, Coralville, Iowa 52241 | April 25, 2005 | 190169
Kentucky: Warren | City of Bowling Green (04-04-A310P) | March 23, 2005; March 30, 2005; Park City Daily News | The Honorable Elaine Walker, Mayor, City of Bowling Green, 1001 College Street, Bowling Green, Kentucky 42102-0430 | March 9, 2005 | 210219
Michigan:
Macomb | Township of Macomb (05-05-0281P) | February 18, 2005; February 25, 2005; Macomb County Legal News | The Honorable John D. Brennan, Township Supervisor, Macomb Township, 54111 Broughton Road, Macomb, Michigan 48042 | January 12, 2005 | 260445
Macomb | Township of Washington (04-05-A257P) | January 26, 2005; February 2, 2005; The Romeo Observer | The Honorable Gary Kirsh, Supervisor, Washington Township, P.O. Box 94067, Washington, Michigan 48094 | January 18, 2005 | 260447
Monroe | Town of Bedford (05-05-0658P) | May 5, 2005; May 12, 2005; The Monroe Evening News | The Honorable Walt Wilburn, Township Supervisor, Township of Bedford, 8100 Jackman Road, Box H, Temperance, Michigan 48182 | April 20, 2005 | 260142
Minnesota: Olmsted | Unincorporated Areas (05-05-1147P) | April 21, 2005; April 28, 2005; Post Bulletin | Mr. Richard Devlin, Olmstead County, Administrator, 151 Fourth Street Southwest, Rochester, Minnesota 55904-3714 | July 28, 2005 | 270626
Missouri: Platte | City of Riverside (04-07-A209P) | March 24, 2005; March 31, 2005; The Landmark | The Honorable Betty Burch, Mayor, City of Riverside, 2950 Northwest Vivion Road, Riverside, Missouri 64150 | March 2, 2005 | 290296
Montana:
Lincoln | City of Libby (04-08-0419P) | March 23, 2005; March 30, 2005; The Western News | The Honorable Anthony Berget, Mayor, City of Libby, P.O. Box 1428, Libby, Montana 59923 | March 1, 2005 | 300042
Lincoln | Unincorporated Areas (04-08-419P) | March 23, 2005; March 30, 2005; The Western News | The Honorable Marianne Roose, Chair, Lincoln County Board of Commissioners, 512 California Avenue, Libby, Montana 59923 | March 1, 2005 | 300157
Nebraska:
Sarpy | Unincorporated Areas (04-07-A507P) | March 23, 2005; March 30, 2005; Bellevue Leader | The Honorable Inez Boyd, Chair, Sarpy County Board of Commissioners, 1210 Golden Gate Drive, Suite 1116, Papillion, Nebraska 68046-2894 | February 14, 2005 | 310190
Saunders | Unincorporated Areas (04-07-A507P) | March 24, 2005; March 31, 2005; Wahoo News | The Honorable Kenneth Kunci, Chairman, Saunders County Board of Supervisors, 109 North Railway, Prague, Nebraska 68050 | February 14, 2005 | 310195
Nevada:
Independent City | City of Carson City (04-09-1128P) | April 7, 2005; April 14, 2005; Nevada Appeal | The Honorable Marv Teixeira, Mayor, City of Carson City, 201 North Carson Street, Suite 1, Carson City, Nevada 89701 | July 14, 2005 | 320001
Washoe | City of Reno (04-09-1534P) | April 14, 2005; April 21, 2005; Reno Gazette-Journal | The Honorable Robert Cashell, Mayor, City of Reno, P.O. Box 1900, Reno, Nevada 89505 | July 21, 2005 | 320020
North Carolina:
Dare | Unincorporated Areas (04-04-A520P) | October 21, 2004; October 28, 2004; Coastland Times | The Honorable Warren Judge, Chairman, Dare County Board of Commissioners, P.O. Box 1000, Manteo, North Carolina 27954 | October 14, 2004 | 375348
Dare | Unincorporated Areas (05-04-0985P) | March 31, 2005; April 7, 2005; Coastland Times | The Honorable Warren Judge, Chairman, Dare County Board of Commissioners, P.O. Box 1000, Manteo, North Carolina 27924 | March 15, 2005 | 375348
Durham | Unincorporated Areas (04-04-A165P) | April 7, 2005; April 14, 2005; The Herald Sun | Mr. Michael M. Ruffin, Durham County, Manager, 200 East Main Street, Second Floor, Durham, North Carolina 27701 | July 14, 2005 | 370085
Mecklenburg | City of Charlotte (04-04-B034P) | April 14, 2005; April 21, 2005; Charlotte Observer | The Honorable Patrick McCrory, Mayor, City of Charlotte, 600 East Fourth Street, Charlotte, North Carolina 28202 | July 21, 2005 | 370159
Mecklenburg | Unincorporated Areas (04-04-B034P) | April 14, 2005; April 21, 2005; Charlotte Observer | Mr. Harry L. Jones, Sr., County Manager, Mecklenburg County, Charlotte-Mecklenburg Government Center, 600 East Fourth Street, 11th Floor, Charlotte, North Carolina 28202 | July 21, 2005 | 370158
Oklahoma: Oklahoma | City of Oklahoma City (05-06-0201P) | March 23, 2005; March 30, 2005; The Journal Record | The Honorable Mick Cornett, Mayor, City of Oklahoma City, 200 North Walker Avenue, Third Floor, Oklahoma City, Oklahoma 73102 | June 29, 2005 | 405378
Oregon: Clackamas | Unincorporated Areas (05-10-0129P) | May 5, 2005; May 12, 2005; The Oregonian | The Honorable Martha Schrader, Chairperson, Clackamas County Board of Commissioners, 2051 Kaen Road, Oregon City, Oregon 97045 | August 11, 2005 | 415588
Tennessee: Shelby | City of Memphis (04-04-A797P) | December 30, 2004; January 6, 2005; The Commercial Appeal | The Honorable Dr. Willie W. Herenton, Mayor, City of Memphis, City Hall, 125 North Main Street, Room 700, Memphis, Tennessee 38103 | December 15, 2004 | 470177
Texas:
Collin | City of Plano (04-06-A213P) | March 10, 2005; March 17, 2005; Plano Star Courier | The Honorable Pat Evans, Mayor, City of Plano, P.O. Box 860358, Plano, Texas 75086-0358 | February 25, 2005 | 480140
Dallas | City of Garland (04-06-A335P) | April 29, 2005; May 5, 2005; Dallas Morning News | The Honorable Bob Day, Mayor, City of Garland, 200 North Fifth Street, Garland, Texas 75040 | July 28, 2005 | 485471
Dallas | Town of Sunnyvale (05-06-0552P) | April 14, 2005; April 21, 2005; The Mesquite News | The Honorable Jim Phaup, Mayor, Town of Sunnyvale, 537 Long Creek Road, Sunnyvale, Texas 75182 | July 21, 2005 | 480188
Denton | City of Denton (04-06-A081P) | April 13, 2005; April 20, 2005; Denton Record Chronicle | The Honorable Euline Brock, Mayor, City of Denton, 215 East McKinney Street, Denton, Texas 76201 | July 20, 2005 | 480194
Denton | Unincorporated Areas (04-06-A302P) | April 14, 2005; April 21, 2005; Denton Record Chronicle | The Honorable Mary Horn, Denton County Judge, Courthouse on the Square, 110 West Hickory Street, Second Floor, Denton, Texas 76201-4168 | July 21, 2005 | 480774
Tarrant | City of Arlington (04-06-A299P) | April 14, 2005; April 21, 2005; Arlington Star-Telegram | The Honorable Robert Cluck, M.D., Mayor, City of Arlington, P.O. Box 90231, Arlington, Texas 76004-3231 | July 21, 2005 | 485454
Tarrant | City of Hurst (05-06-0126P) | March 10, 2005; March 17, 2005; Fort Worth Star-Telegram | The Honorable Richard Ward, Mayor, City of Hurst, 1505 Precinct Line Road, Hurst, Texas 76054 | February 16, 2005 | 480601
Travis | City of Austin (04-06-A121P) | March 16, 2005; March 23, 2005; Austin American-Statesman | The Honorable Kirk P. Watson, Mayor, City of Austin, P.O. Box 1088, Austin, Texas 78767-2250 | June 22, 2005 | 480624
Utah: Salt Lake | City of Salt Lake City (04-08-0707P) | March 24, 2005; March 31, 2005; Desert News | The Honorable Rocky Anderson, Mayor, City of Salt Lake City, 451 South State Street, Room 306, Salt Lake City, Utah 84111 | February 10, 2005 | 490105
Virginia: Fauquier | Unincorporated Areas (05-03-0157P) | April 14, 2005; April 21, 2005; The Fauquier Citizen | Mr. Paul McCulla, County Administrator, Fauquier County, 10 Hotel Street, Warrenton, Virginia 20186 | July 21, 2005 | 510055
Wisconsin:
Fond du Lac | Unincorporated Areas (04-05-A486P) | March 24, 2005; March 31, 2005; Fond du Lac Reporter | The Honorable Brenna Garrison-Bruden, County Board Chair, Fond du Lac County, 160 South Macy Street, Fond du Lac, Wisconsin 54935 | April 8, 2005 | 550131
Washington | Unincorporated Areas (05-05-1018P) | May 12, 2005; May 19, 2005; West Bend Daily News | The Honorable Kenneth F. Miller, Chairperson, Washington County Board of Supervisors, 432 East Washington Street, West Bend, Wisconsin 53095 | August 18, 2005 | 550471
Wyoming: Teton | Unincorporated Areas (04-08-0488P) | March 2, 2005; March 9, 2005; Jackson Hole News | The Honorable Larry Jorgenson, Chair, Teton County, Board of Commissioners, P.O. Box 3594, Jackson, Wyoming 83001 | June 1, 2005 | 560094

(Catalog of Federal Domestic Assistance No. 83.100, “Flood Insurance.”)
Dated: June 22, 2005.
David I. Maurstad,
Acting Director, Mitigation Division, Emergency Preparedness and Response Directorate.

[FR Doc. 05-12681 Filed 6-27-05; 8:45 am]

BILLING CODE 9110-12-P